DEPARTMENT OF HEALTH AND HUMAN SERVICES

National Institutes of Health

Government-Owned Inventions; Availability for Licensing

AGENCY: National Institutes of Health, Public Health Service, HHS

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

A Fullerene-Based Anticoagulant

Description of Technology: This technology relates to the use of substituted or modified C60 fullerenes, which are carbon-based molecular cages that resemble soccer balls, for the prevention or treatment of thrombosis, peripheral arterial occlusion, and catheter obstruction. Described are compositions and methods for administering such compounds at the implantation site of an in-dwelling device and methods of coating in-dwelling devices with such compounds. Such devices include stents, stent grafts, pacemakers, defibrillators, venous valves, heart valves, sutures, catheters, and drug delivery ports.

Applications: Non-invasive method of preventing clot formation.

Market: Anticoagulation therapy averages several billion dollars a year.

Further Research Required: Anti-coagulant properties of C-60 derivatives in vivo; Device coating and in vivo efficacy; Safety evaluation of device, in vivo models.

Inventors: Marina Dobrovolskaia et al. (NCI)

Patent Status: PCT Application No. PCT/US2006/041838 filed 25 Oct 2006 (HHS Reference No. E-140-2006/0 PCT-01)

Licensing Status: Available for licensing.

Licensing Contact: Fatima Sayyid, M.H.P.M.; 301/435-4521; sayyidf@mail.nih.gov

Aminoalkyl Substituted O⁶-Benzylguanine Derivatives as Inactivators of O⁶-Alkylguanine-DNA Alkyltransferase and Adjuvants for Chemotherapy

Description of Technology: This present invention describes novel class of compounds that inactivate the DNA repair protein O⁶-alkylguanine-DNA alkyltransferase (AGT). Inactivation of this protein improves therapeutic effectiveness of chemotherapy drugs that modify O⁶-position of DNA guanine residues.

These new compounds have several advantages over the existing O⁶-benzylguanine compounds in terms of being more water soluble, being more potent, and the compounds are more readily formulated in water or phosphate buffered saline solutions than O⁶-benzylguanine compounds.

The existing O⁶-benzylguanine compounds are currently in Phase II and III clinical trials. The new aminoalkyl substituted O⁶-benzylguanine derivatives are currently in preclinical trials.

Applications and Modality: New compounds have potential to improve chemotherapy treatment with anticancer agents; New compounds are more water soluble, more readily formulated and more potent than existing O⁶-benzylguanine compounds.

Market: 600,000 deaths from cancer related diseases were estimated in 2006; In 2006, cancer drug sales were estimated to be $25 billion.

Development Status: The technology is currently in the pre-clinical stage of development.

Inventors: Robert C. Moschel (NCI) et al.

Relevant Publication: A manuscript directly related to the above technology will be available as soon as it is accepted for publication.

Patent Status: U.S. Patent Application No. 11/683,310 filed 07 Mar 2007 (HHS Reference No. E-307-2004/1-US-01).

Licensing Status: Available for exclusive and non-exclusive licensing.

Licensing Contact: Adaku Nwachukwu, J.D.; 301/435-5560; madua@mail.nih.gov.

Inhibition of ABC Transporters by Transmembrane Domain Analogs

Description of Technology: ABC transporters contain multiple transmembrane domains and are involved in the translocation of a variety of substrates across cell membranes. Upregulation of these transporters contributes to multiple drug resistance in cancer chemotherapy wherein these transporters export chemotherapeutic agents out of cancer cells. The inventors have found that P-glycoprotein and ABCG2 transporter can be effectively inhibited by properly modified peptides corresponding to certain transmembrane domains. This inhibition can be used to overcome drug resistance in resistant tumors.

Applications: Therapeutics that enhance cancer treatments.

Market: Cancer is the second leading cause of death in the United States; 600,000 deaths caused by cancer in 2006; Worldwide incidence of new cancer patients is forecast to increase from 4.2 million cases in the major cancer markets in 2005 to 4.6 million in 2010; Global anticancer market was worth over $42 billion in 2005 and by 2010, the global cancer market is expected to generate sales in excess of $60 billion.

Development Status: The technology is currently in the pre-clinical stage of development.

Inventors: Nadya I. Tarasova et al. (NCI)

Publications:

1. NI Tarasova et al. Transmembrane inhibitors of P-glycoprotein, an ABC transporter. J Med Chem. 2005 Jun 2;48(11):3768-3775.

2. NI Tarasova et al. Inhibition of G-protein-coupled receptor function by disruption of transmembrane domain interactions. J Biol Chem. 1999 Dec 3;274(49):34911-34915.

Patent Status: U.S. Patent Application No. 10/130,192 filed 13 May 2002 (HHS Reference No. E-019-2000/2-US-02); PCT Patent Application No. PCT/US2000/31817 filed 17 Nov 2000 (HHS Reference No. E-019-2000/2-PCT-01); U.S. Provisional Patent Application No. 60/166,767 filed 22 Nov 1999 (HHS Reference No. E-019-2000/1-US-01); U.S. Provisional Patent Application No. 60/166,382 filed 18 Nov 1999 (HHS Reference No. E-019-2000/0-US-01).

Licensing Status: Available for exclusive or non-exclusive licensing.

Licensing Contact: Jennifer Wong; 301/435-4633; wongje@mail.nih.gov.

Collaborative Research Opportunity: The National Cancer Institute's Structural Biophysics Laboratory is seeking statements of capability or interest from parties interested in collaborative research to further develop, evaluate, or commercialize inhibitors of multiple drug resistance proteins. Please contact John D. Hewes, Ph.D. at 301-435-3121 or hewesj@mail.nih.gov for more information.

Dated: May 21, 2007.
Steven M. Ferguson,
Director, Division of Technology Development and Transfer, Office of Technology Transfer, National Institutes of Health.

[FR Doc. E7-10332 Filed 5-29-07; 8:45 am]

BILLING CODE 4140-01-P